DEPARTMENT OF TRANSPORTATION

Office of the Secretary

Notice of Applications for Certificates of Public Convenience and Necessity and Foreign Air Carrier Permits Filed Under Subpart B (Formerly Subpart Q) During the Week Ending April 7, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0049.

Date Filed: April 3, 2012.

Due Date for Answers, Conforming Applications, or Motion to Modify Scope: April 24, 2012.

Description: Application of ACT Havayollari A.S. d/b/a ACT Airlines requesting a foreign air carrier permit to enable ACT Airlines to operate charter foreign air transportation of property and mail between a point or points in Turkey, via intermediate points, and points in the United States and beyond, and other charters. ACT Airlines also requests (1) exemption authority, to the extent necessary to enable it to hold out and provide the service described above; and (2) such additional or other relief as the Department may deem necessary or appropriate.

Docket Number: DOT-OST-2012-0050.

Date Filed: April 3, 2012.

Due Date for Answers, Conforming Applications, or Motion to Modify Scope: April 24, 2012.

Description: Application of Jeju Air Co., Ltd. requesting an exemption and foreign air carrier permit authorizing it to engage in scheduled foreign air transportation of persons, property and mail from points behind the Republic of Korea via the Republic of Korea and intermediate points, to a point or points in the United States and beyond, to the full extent permitted by the U.S.-Republic of Korea Open Skies Agreement; as well as charter flights.

Docket Number: DOT-OST-2012-0051.

Date Filed: April 3, 2012.

Due Date for Answers, Conforming Applications, or Motion to Modify Scope: April 24, 2012.

Description: Application of Airfix Aviation Oy (“Airfix”) requesting a foreign air carrier permit to engage in on-demand charter transportation of passengers and property between point(s) in Finland and point(s) in the United States, foreign air transportation of persons and property between any points in a Member State of the European Union and any points in the United States coextensive with rights provided under U.S. EC Air Transport Agreement, and other charter transportation. Airfix further requests a corresponding exemption enabling it to provide the service described above pending issuance of a foreign air carrier permit.

Renee V. Wright,
Program Manager, Docket Operations, Federal Register Liaison.

[FR Doc. 2012-11278 Filed 5-10-12; 8:45 am]

BILLING CODE 4910-9X-P